DEPARTMENT OF COMMERCE

National Oceanic and Atmospheric Administration

50 CFR Part 622

[Docket No.060525140-6221-02]

RIN 0648-XC83

Fisheries of the Caribbean, Gulf of Mexico, and South Atlantic; Snapper-Grouper Fishery of the South Atlantic Region; Closure

AGENCY: National Marine Fisheries Service (NMFS), National Oceanic and Atmospheric Administration (NOAA), Commerce.

ACTION: Temporary rule; closure.

SUMMARY: NMFS closes the commercial fishery for golden tilefish in the exclusive economic zone (EEZ) in the South Atlantic. This closure is necessary to protect the golden tilefish resource.

DATES: The closure is effective 12 noon, local time, October 3, 2007, through December 31, 2007.

FOR FURTHER INFORMATION CONTACT: Susan Gerhart, 727-824-5305, fax: 727-824-5308, e-mail: Susan.Gerhart@noaa.gov.

SUPPLEMENTARY INFORMATION: The snapper-grouper fishery is managed under the Fishery Management Plan for the Snapper-Grouper Fishery of the South Atlantic Region (FMP). The FMP was prepared by the South Atlantic Fishery Management Council (Council) and is implemented under the authority of the Magnuson-Stevens Fishery Conservation and Management Act (Magnuson-Stevens Act) by regulations at 50 CFR part 622.

The commercial fishery for South Atlantic golden tilefish is managed under a commercial quota of 295,000 lb (133,810 kg), as specified in 50 CFR 622.42(e)(2), for the current fishing year, January 1 through December 31, 2007.

Under 50 CFR 622.43(a), NMFS is required to close the golden tilefish commercial fishery when its quota has been reached, or is projected to be reached, by filing a notification at the Office of the Federal Register. NMFS has determined the commercial quota of 295,000 lb (133,810 kg) for golden tilefish in the South Atlantic will be reached by October 3, 2007. Accordingly, the commercial fishery for South Atlantic golden tilefish is closed effective 12 noon, local time, October 3, 2007, through December 31, 2007, the end of the fishing year. The operator of a vessel with a valid commercial vessel permit for South Atlantic snapper-grouper having golden tilefish aboard must have landed and bartered, traded, or sold such golden tilefish prior to 12 noon, local time, October 3, 2007.

During the closure, the appropriate bag limits specified in 50 CFR 622.39(d)(1) and the applicable possession limits specified in 50 CFR 622.39(d)(2) apply to all harvest or possession of golden tilefish in or from the South Atlantic EEZ, and the sale or purchase of golden tilefish taken from the EEZ is prohibited. The prohibition on sale or purchase does not apply to sale or purchase of golden tilefish that were harvested, landed ashore, and sold prior to 12 noon, local time, October 3, 2007, and were held in cold storage by a dealer or processor.

Classification

This action responds to the best available information recently obtained from the fisheries. The Assistant Administrator for Fisheries, NOAA, finds that the need to immediately implement this action to close the fishery constitutes good cause to waive the requirements to provide prior notice and opportunity for public comment pursuant to the authority set forth in 5 U.S.C. 553(b)(3)(B), as such procedures would be unnecessary and contrary to the public interest. Such procedures would be unnecessary because the rule itself already has been subject to notice and comment, and all that remains is to notify the public of the closure.

NMFS also finds good cause that the implementation of this action cannot be delayed for 30 days. There is a need to implement this measure in a timely fashion to prevent an overrun of the commercial quota of South Atlantic golden tilefish, given the capacity of the fishing fleet to harvest the quota quickly. Any delay in implementing this action would be contrary to the Magnuson-Stevens Act and the FMP. Accordingly, under 5 U.S.C. 553(d), a delay in the effective date is waived.

This action is taken under 50 CFR 622.43(a) and is exempt from review under Executive Order 12866.

Authority: 16 U.S.C. 1801 et seq.

Dated: September 24, 2007.
Alan D. Risenhoover,
Director, Office of Sustainable Fisheries, National Marine Fisheries Service.

[FR Doc. 07-4797 Filed 9-25-07; 2:07 pm]

BILLING CODE 3510-22-S